INTERNATIONAL TRADE COMMISSION

[Investigation Nos. 701-TA-593-596 and 731-TA-1401-1406 (Review)]

Large Diameter Welded Pipe From Canada, China, Greece, India, South Korea, and Turkey

Determinations

On the basis of the record ¹ developed in the subject five-year reviews, the United States International Trade Commission (“Commission”) determines, pursuant to the Tariff Act of 1930 (“the Act”), that revocation of the countervailing duty orders on large diameter welded pipe from China, India, South Korea, and Turkey and the antidumping duty orders on large diameter welded pipe from Canada, China, Greece, India, South Korea, and Turkey would be likely to lead to continuation or recurrence of material injury to an industry in the United States within a reasonably foreseeable time.

¹ The record is defined in § 207.2(f) of the Commission's Rules of Practice and Procedure (19 CFR 207.2(f)).

The Commission made affirmative determinations with respect to the countervailing duty orders covering large diameter welded line pipe from India and South Korea and the antidumping duty orders covering large diameter welded line pipe from Canada, China, Greece, India, South Korea, and Turkey. The Commission also made affirmative determinations with respect to the countervailing duty orders covering large diameter welded structural pipe from China, South Korea, and Turkey and the antidumping duty orders covering large diameter welded structural pipe from Canada, China, South Korea, and Turkey.

Background

The Commission instituted these reviews on February 1, 2024 (89 FR 6543) and determined on May 6, 2024 that it would conduct full reviews (89 FR 46160, May 28, 2024). Notice of the scheduling of the Commission's reviews and of a public hearing to be held in connection therewith was given by posting copies of the notice in the Office of the Secretary, U.S. International Trade Commission, Washington, DC, and by publishing the notice in the Federal Register on August 13, 2024 (89 FR 65932). The Commission conducted its hearing on February 25, 2025. All persons who requested the opportunity were permitted to participate.

The Commission made these determinations pursuant to section 751(c) of the Act (19 U.S.C. 1675(c)). It completed and filed its determinations in these reviews on April 28, 2025. The views of the Commission are contained in USITC Publication 5609 (April 2025), entitled Large Diameter Welded Pipe from Canada, China, Greece, India, South Korea, and Turkey: Investigation Nos. 701-TA-593-596 and 731-TA-1401-1406 (Review).

By order of the Commission.
Issued: April 29, 2025.
Lisa Barton,
Secretary to the Commission.

[FR Doc. 2025-07636 Filed 5-1-25; 8:45 am]

BILLING CODE 7020-02-P